DEPARTMENT OF AGRICULTURE

Rural Business-Cooperative Service

Notice of Funds Availability (NOFA) Inviting Applications for the Renewable Energy Systems and Energy Efficiency Improvements Grant Program

AGENCY: Rural Business-Cooperative Service, USDA.

ACTION: Notice.

SUMMARY: The Rural Business-Cooperative Service (RBS) announces the availability of $23 million in competitive grant funds for fiscal year (FY) 2003 to purchase renewable energy systems and make energy improvements for agricultural producers and rural small businesses. In order to be eligible for grant funds, the agricultural producer or rural small business must demonstrate financial need. The grant request must not exceed 25 percent of the eligible project costs.

DATES: Applications must be completed and submitted to the appropriate United States Department of Agriculture (USDA) State Rural Development Office postmarked no later than June 6, 2003. Applications postmarked after June 6, 2003, will be returned to the applicant with no action. Comments regarding the information collection requirements under the Paperwork Reduction Act of 1995 must be received on or before June 9, 2003.

ADDRESSES: Submit proposals to the USDA State Rural Development Office where your project is located or, in the case of a rural small business, where you are headquartered. A list of the Energy Coordinators and State Rural Development Office addresses and telephone numbers follow. For further information about this solicitation, please contact the applicable State Office.

USDA State Rural Development Offices

Alabama

Chris Harmon, USDA Rural Development

Sterling Center, Suite 601

4121 Carmichael Road

Montgomery, AL 36106-3683

(334) 279-3615

Alaska

Dean Stewart, USDA Rural Development

800 West Evergreen, Suite 201

Palmer, AK 99645-6539

(907) 761-7722

Arizona

Gary Mack, USDA Rural Development

3003 North Central Avenue, Suite 900

Phoenix, AZ 85012-2906

(602) 280-8717

Arkansas

Shirley Tucker, USDA Rural Development

700 West Capitol Avenue, Room 3416

Little Rock, AR 72201-3225

(501) 301-3280

California

Charles Clendenin, USDA Rural Development

430 G Street, Agency 4169

Davis, CA 95616-4169

(530) 792-5825

Colorado

Sue McWilliams, USDA Rural Development

628 West 5th Street

Cortez, CO 81321

(970) 565-8416, Ext. 127

Delaware-Maryland

James Waters, USDA Rural Development

4607 South Dupont Hwy.

P.O. Box 400

Camden, DE 19934-0400

(302) 697-4324

Florida/Virgin Islands

Joe Mueller, USDA Rural Development

4440 NW. 25th Place

P.O. Box 147010

Gainesville, FL 32614-7010

(352) 338-3482

Georgia

J. Craig Scroggs, USDA Rural Development

333 Phillips Drive

McDonough, GA 30253

(678) 583-0866

Hawaii

Tim O'Connell, USDA Rural Development

Federal Building, Room 311

154 Waianuenue Avenue

Hilo, HI 96720

(808) 933-8313

Idaho

Dale Lish, USDA Rural Development

725 Jensen Grove Drive, Suite 1

Blackfoot, ID 83221

(208) 785-5840, Ext. 118

Illinois

Cathy McNeal, USDA Rural Development

2118 West Park Court, Suite A

Champaign, IL 61821

(217) 403-6209

Indiana

Jerry Hay, USDA Rural Development

North Vernon Area Office

2600 Highway 7 North

North Vernon, IN 47265

(812) 346-3411, Ext. 4

Iowa

Jeff Kuntz, USDA Rural Development

Federal Building, Room 873

210 Walnut Street

Des Moines, IA 50309

(614) 932-3031

Kansas

Larry Carnahan, USDA Rural Development

P.O. Box 437

115 West 4th Street

Altamont, KS 67330

(620) 784-5431

Kentucky

Dewayne Easter, USDA Rural Development

771 Corporate Drive, Suite 200

Lexington, KY 40503

(859) 224-7435

Louisiana

Kevin Boone, USDA Rural Development

3727 Government Street

Alexandria, LA 71302

(318) 473-7960

Maine

Michael Rollins, USDA Rural Development

967 Illinois Avenue, Suite 4

P.O. Box 405

Bangor, ME 04402-0405

(207) 990-9125

Massachusetts/Rhode Island/Connecticut

Sharon Colburn, USDA Rural Development

Rural Energy Coordinator

451 West Street, Suite 2

Amherst, MA 01002-2999

(413) 253-4303

Michigan

Jason Church, USDA Rural Development

3001 Coolidge Road, Suite 200

East Lansing, MI 48823

(517) 324-5217

Minnesota

David Gaffaney, USDA Rural Development

410 AgriBank Building

375 Jackson Street

St. Paul, MN 55101-1853

(651) 602-7814

Mississippi

Charlie Joiner, USDA Rural Development

Federal Building, Suite 831

100 West Capitol Street

Jackson, MS 39269

(601) 965-5457

Missouri

D. Clark Thomas, USDA Rural Development

601 Business Loop 70 West

Parkade Center, Suite 235

Columbia, MO 65203

(573) 876-0984

Montana

John Guthmiller, USDA Rural Development

900 Technology Blvd., Unit 1, Suite B

P.O. Box 850

Bozeman, MT 59771

(406) 585-2549

Nebraska

Cliff Kumm, USDA Rural Development

201 North, 25 Street

Beatrice, NE 68310

(402) 223-3125

Nevada

Dan Johnson, USDA Rural Development

555 West Silver Street, Suite 101

Elko, NV 89801

(775) 738-8468, Ext. 112

New Jersey

Michael Kelsey, USDA Rural Development

5th Floor North, Suite 500

8000 Midlantic Drive

Mt. Laurel, NJ 08054

(856) 787-7700, Ext. 7751

New Mexico

Eric Vigil, USDA Rural Development

6200 Jefferson Street, NE.

Room 255

Albuquerque, NM 87109

(505) 761-4952

New York

Robert Pestridge, USDA Rural Development

The Galleries of Syracuse

441 South Salina Street, Suite 357

Syracuse, NY 13202-2541

(315) 477-6426

North Carolina

H. Rossie Bullock, USDA Rural Development

Bladen County Agriculture Service Center

450 Smith Circle, Room 137

Elizabethtown, NC 28337

(910) 862-3179

North Dakota

Dale Van Eckout, USDA Rural Development

Federal Building, Room 208

220 East Rosser Avenue

P.O. Box 1737

Bismarck, ND 58502-1737

(701) 530-2065

Ohio

James Cogan, USDA Rural Development

Federal Building, Room 507

200 North High Street

Columbus, OH 43215-2418

(614) 255-2420

Oklahoma

Jody Harris, USDA Rural Development

100 USDA, Suite 108

Stillwater, OK 74074-2654

(405) 742-1036

Oregon

Don Hollis, USDA Rural Development

1229 SE Third Street, Suite A

Pendleton, OR 97801-4198

(541) 278-8049, Ext. 129

Pennsylvania

Lee Patterson, USDA Rural Development

One Credit Union Place, Suite 330

Harrisburg, PA 17110-2996

(717) 237-2189

Puerto Rico

Virgilio Velez, USDA Rural Development

IBM Building

654 Munoz Rivera Avenue, Suite 601

Hato Rey, PR 00918-6106

(787) 766-5091

South Carolina

Mike Hucks, USDA Rural Development

Strom Thurmond Federal Building

1835 Assembly Street, Room 1007

Columbia, SC 29201

(803) 253-3645

South Dakota

Gary Korzan, USDA Rural Development

Federal Building, Room 210

200 4th Street, SW.

Huron, SD 57350

(605) 352-1142

Tennessee

Dan Beasley, USDA Rural Development

3322 West End Avenue, Suite 300

Nashville, TN 37203-1084

(615) 783-1341

Texas

Pat Liles, USDA Rural Development

Federal Building, Suite 102

101 South Main Street

Temple, TX 76501

(254) 742-9780

Utah

Richard Carrig, USDA Rural Development

Wallace F. Bennett Federal Building

125 South State Street, Room 4311

Salt Lake City, UT 84147-0350

(801) 524-4328

Vermont/New Hampshire

Lyn Millhiser, USDA Rural Development

City Center, 3rd Floor

89 Main Street

Montpelier, VT 05602

(802) 828-6069

Contact person for New Hampshire:

Scott Johnson, (603) 223-6042

Virginia

Laurette Tucker, USDA Rural Development

Culpeper Building, Suite 238

1606 Santa Rosa Road

Richmond, VA 23229

(804) 287-1594

Washington

Chris Cassidy, USDA Rural Development

1606 Perry Street, Suite E

Yakima, WA 98902-5769

(509) 454-5743, Ext. 5

West Virginia

Cheryl Wolfe, USDA Rural Development

75 High Street, Room 320

Morgantown, WV 26505-7500

(304) 284-4882

Wisconsin

Brian Deaner, USDA Rural Development

4949 Kirschling Court

Stevens Point, WI 54481

(715) 345-7615, Ext. 132

Wyoming

Jerry Tamlin, USDA Rural Development

100 East B, Federal Building, Room 1005

P.O. Box 820

Casper, WY 82602

(307) 261-6319

SUPPLEMENTARY INFORMATION:

Background

This solicitation is issued pursuant to enactment of the Farm Security and Rural Investment Act of 2002 (2002 Act), which established the Renewable Energy Systems and Energy Efficiency Improvements Program under Title IX, Section 9006. The 2002 Act requires the Secretary of Agriculture to create a program to make direct loans, loan guarantees, and grants to agricultural producers and rural small businesses to purchase renewable energy systems and make energy efficiency improvements. The program is designed to help agricultural producers and rural small businesses reduce energy costs and consumption and help meet the nation's critical energy needs. The 2002 Act also mandates the maximum percentage RBS will provide in funding for these types of projects. The RBS grant will not exceed 25 percent of the eligible project costs and will be made only to those who demonstrate financial need. Due to the time constraints for implementing this program, RBS has decided to institute only the grant program for FY 2003.

Definitions applicable to this NOFA

Agricultural Producer—An individual or entity directly engaged in the production of agricultural products, including crops (including farming); livestock (including ranching); forestry products; hydroponics; nursery stock; or aquaculture, whereby 50 percent or greater of their gross income is derived from the operations.

Annual receipts—Total income or gross income (sole proprietorship) plus cost of goods sold.

Biogas—Biomass converted to gaseous fuels.

Biomass—Any organic material that is available on a renewable or recurring basis including agricultural crops; trees grown for energy production; wood waste and wood residues; plants, including aquatic plants and grasses; fibers; animal waste and other waste materials; and fats, oils, and greases, including recycled fats, oils, and greases. It does not include paper that is commonly recycled or unsegregated solid waste.

Capacity—The load that a power generation unit or other electrical apparatus or heating unit is rated by the manufacturer to be able to meet or supply.

Capacity Factor—The ratio of the average load on (or power output of) a generating unit or system to the capacity rating of the unit or system over a specified period of time.

Commercially Available—Systems that have a proven operating history and an established design, installation, equipment, and service industry.

Demonstrated Financial Need—The applicant must demonstrate that it is unable to finance the project from its own resources or other funding sources without grant assistance.

Eligible Project Cost—Total project costs that are eligible to be paid with grant funds.

Energy Audit—A written report by an independent, qualified entity or individual that documents current energy usage, recommended improvements and their costs, energy savings from these improvements, dollars saved per year, and the weighted-average payback period in years.

Energy Efficiency Improvement—Improvements to a facility or process that reduce energy consumption.

Financial Feasibility—The ability of the business to achieve the projected income and cash flow. An assessment of the cost-accounting system, the availability of short-term credit for seasonal business, and the adequacy of raw materials and supplies.

Grant Close Out—When all required work is completed, administrative actions relating to the completion of work and expenditures of funds have been accomplished, and RBS accepts final expenditure information.

In-kind Contributions—Applicant or third-party real or personal property or services benefiting the Federally assisted project or program that are contributed by the applicant or a third party.

Interconnection Agreement—The terms and conditions governing the interconnection and parallel operation of the applicant's electric generation equipment and the utility's electric power system. Other services required by the applicant from the utility are covered under separate arrangements.

Leveraged Funds—The funds needed to pay for the portion of the eligible project costs of the project not paid for by a grant awarded under this program.

Other Waste Materials—Inorganic or organic materials that are used as inputs for energy production or are by-products of the energy production process.

Power Purchase Arrangement—The terms and conditions governing the sale and transportation of electricity produced by the applicant to another party. Other services are covered under separate arrangements.

Pre-commercial Technology—Technologies that have emerged through the research and development process and have technical and economic potential for application in commercial energy markets but are not yet commercially available.

Renewable Energy—Energy derived from a wind, solar, biomass, or geothermal source or hydrogen derived from biomass or water using wind, solar, or geothermal energy sources.

Renewable Energy System—A process that produces energy from a renewable energy source.

Rural—Any area other than a city or town that has a population of greater than 50,000 inhabitants and the urbanized area contiguous and adjacent to such a city or town.

Small Business—A private entity including a sole proprietorship, partnership, corporation, and a cooperative (including a cooperative qualified under section 501(c)(12) of the Internal Revenue Code) but excluding any private entity formed solely for a charitable purpose, and which private entity is considered a small business concern in accordance with the Small Business Administration's Small Business Size Standards by North American Industry Classification System (NAICS) Industry found in 13 CFR 121; provided the entity has 500 or fewer employees and $20 million or less in total annual receipts including all parent, affiliate, or subsidiary entities at other locations.

Total Project Cost—The sum of all costs associated with a completed, operational project.

Grant Amounts

The amount of funds available for this program in FY 2003 is $23 million. RBS grant funds may be used to pay up to 25 percent of the eligible project costs. Half of the funds will be available for renewable energy systems and the other half for energy efficiency improvement projects. USDA may reallocate funds between the renewable energy systems and the energy efficiency improvement funds. Applications for renewable energy systems must be for a minimum grant request of $10,000, but no more than $500,000. Applications for energy efficiency improvements must be for a minimum grant request of $10,000, but no more than $250,000. The actual number of grants funded will depend on the quality of proposals received and the amount of funding requested. These limits are consistent with energy efficiency improvement projects and alternative energy systems, which the Department has determined are appropriate for agricultural producers and rural small businesses. Grant limitations were based on historical data supplied from Department of Energy, Environmental Protection Agency and Rural Utilities Service on renewable energy systems and from an energy efficiency state program for energy efficiency improvements.

Applicant Eligibility

An eligible applicant must be an agricultural producer or rural small business. Individual applicants must be citizens of the United States (U.S.) or reside in the U.S. after being legally admitted for permanent residence. Entities must be at least 51 percent owned, directly or indirectly, by individuals who are either citizens of the U.S. or reside in the U.S. after being legally admitted for permanent residence. The applicant must also have demonstrated financial need. In the case of an applicant that is applying as a rural small business, the business headquarters must be in a rural area and the project to be funded also must be in a rural area. Adverse actions made on applications are appealable pursuant to 7 CFR part 11.

Project Eligibility

The proposed project must be for the purchase of a renewable energy system or to make energy efficiency improvements and located in a rural area. The applicant must be the owner of the system and control the operation of the proposed project. A third-party operator may be used to manage the operation or proposed project. Grant funds are not for research and development; therefore, they will only be used for commercial or pre-commercial technology.

All projects financed under this NOFA must be based on satisfactory sources of revenues in an amount sufficient to provide for the operation and maintenance of the system or project.

A proposed renewable energy system can use up to 25 percent of total energy input from a nonrenewable energy source for necessary and incidental requirements of the energy system. No other use of non-renewable energy inputs will be allowed for projects funded under this program.

Eligible projects for energy efficient improvements must conserve energy equal to 15 percent of at least the last 12 months usage and pay for itself within 11 years or less through energy cost savings.

RBS is required to assess the potential environmental impacts of a proposed action prior to commitment of Federal financial resources to the project. This environmental review is consistent with the Council on Environmental Quality's (CEQ) regulations for implementing the procedural provisions of the National Environmental Policy Act. Any required environmental review must be completed prior to RBS obligating any grant funds. The taking of any actions or incurring any obligations during the time of application or application review and processing which would either limit the range of alternatives to be considered or which would have an adverse effect on the environment, such as the initiation of construction, will result in project ineligibility.

Environmental review will be accomplished pursuant to RBS environmental regulations found at 7 CFR part 1940, subpart G or successor regulations. A site visit will be scheduled, if necessary, to determine the scope of the review. The applicant will be notified regarding the level of review required. If an environmental review cannot be completed in sufficient time for grant funds to be obligated by September 30, 2003, grant funds will not be awarded.

Eligible and Ineligible Uses for RBS Grant Funds

RBS grant funds may be used for the following as a part of an eligible project:

1. Purchase and installation of equipment;

2. Construction or improvements;

3. Energy audits;

4. Permit fees;

5. Professional service fees;

6. Feasibility studies;

7. Business plans, and

8. Retrofitting.

Ineligible uses for RBS Grant Funds:

1. Land acquisition;

2. Capital leases;

3. Working capital;

4. Residential improvements;

5. Agricultural tillage equipment;

6. Vehicles;

7. Preparation of the grant application;

8. Waste collection;

9. Funding of political or lobbying activities;

10. Operating, maintaining, routine repairs, or fuel costs for biogas or biomass renewable energy projects;

11. Production, collection, and transportation of energy inputs;

12. Construction of a new facility except when the new facility is used for the same purpose, is approximately the same size, and, based on the energy audit, will provide more energy savings than improving an existing facility. Only the items identified in the energy audit of the existing facility will be eligible for funding. (pertains to energy efficiency projects only); and

13. Costs paid prior to an application being received by RBS except for predevelopment costs such as energy audits, feasibility studies, business plans, permit fees, or architectural and engineering fees.

Leveraged Funds

RBS grant funds may be used to pay up to 25 percent of the eligible project costs. Therefore, the applicant must provide at least 75 percent of leveraged funds to complete the project. Leveraged funds will be verified from information provided in the application. In-kind contributions and other Federal grants may not be used to meet the 75 percent requirement.

Application

Separate applications must be submitted for renewable energy system and energy efficiency improvement projects. Applicants can only submit one application for renewable energy systems and one application for energy efficiency improvements. The maximum amount of grant assistance to one individual or entity will not exceed $750,000. The following will constitute a complete application, which must be submitted by June 6, 2003.

1. Form SF-424, “Application for Federal Assistance.”

2. Form SF-424C, “Budget Information—Construction Pograms.” Each cost classification category listed on the form must be filled out if it applies to your project. Any cost category item not listed on the form that applies to your project can be put under the miscellaneous category. Attach a separate sheet if you are using the miscellaneous category and list each miscellaneous cost by not allowable and allowable costs in the same format as on the SF-424C form. All project costs must be categorized as either eligible or ineligible.

3. Form SF-424D, “Assurances—Construction Programs.”

4. AD-1047, “Certification Regarding Debarment, Suspension, and Other Responsibility Matters—Primary Covered Transactions.”

5. AD-1049, “Certification Regarding a Drug-Free Workplace Requirements.”

6. Form RD 400-1, “Equal Opportunity Agreement.”

7. Form RD 400-4, “Assurance Agreement.”

8. “Certification for Contracts, Grants and Loans,” required by Section 319 of Public Law 101-121 if the grant is $100,000 or more.

9. If the applicant has made or agreed to make payment using funds other than Federal appropriated funds to influence or attempt to influence a decision in connection with the application, Form SF-LLL, “Disclosure of Lobbying Activities,” must be completed.

10. A project-specific feasibility study prepared by a qualified independent consultant will be required for all renewable energy system projects. An acceptable feasibility study must include an analysis of the market, financial, and management feasibility of the proposed project. The feasibility study must include an opinion and a recommendation by the independent consultant. Energy efficiency improvement projects do not require a feasibility study to be completed.

11. If the project involves interconnection to an electric utility, a copy of a letter of intent to purchase power, a power purchase agreement, or an interconnection agreement will be required from your utility company or other purchaser for renewable energy systems.

12. Table of Contents. For ease of locating information, each proposal must contain a detailed Table of Contents immediately following the required SF-424 forms. The Table of Contents should include page numbers for each component of the proposal. Pagination should begin immediately following the Table of Contents.

13. Project Summary. A summary of the project proposal, not to exceed one page, must include the following: Title of the project, description of the project including goals and tasks to be accomplished, names of the individuals responsible for conducting and completing the tasks, and the expected timeframes for completing all tasks, including an operational date. The applicant must also clearly state whether the application is for the purchase of a renewable energy system or to make energy efficiency improvements.

14. Eligibility. Describe how you meet the definition of an eligible applicant.

15. Applicant Information. All applicants must provide the following:

A. Business/farm/ranch operation.

(1) Describe ownership, including a list of individuals and/or entities with ownership interest. Provide names of any corporate parents, affiliates, and subsidiaries, as well as a description of the relationship, including products, between these entities.

(2) Describe the operation.

B. Management. Provide the resume of key managers focusing on relevant business experience.

C. Financial Information.

(1) Explanation of the demonstrated financial need for the grant.

(2) Current balance sheet and income statement prepared in accordance with generally accepted accounting principles (GAAP) and dated within 90 days of the application for rural small businesses. Agricultural producers should present financial information in the format that is generally required by commercial agriculture lenders. These items are required on the total operations of the applicant and its parent, subsidiary, or affiliates at other locations.

(3) Small business applicants must provide sufficient information to determine total annual receipts of the business and any parent, subsidiary, or affiliates at other locations. Voluntarily providing tax returns is one means of satisfying this requirement. Information provided must be sufficient to make a determination of total income and cost of goods sold by the business.

(4) If available, financial statements prepared in accordance with GAAP for the past 3 years, including income statements and balance sheets. Agricultural producers should present financial information for the past 3 years in the format that is generally required by commercial agriculture lenders.

(5) Financial projections to include pro forma financial statements for 3 years, with an explanation of assumptions used to generate the financial statements. The financial statements must include cash flow statements, income statements, and balance sheets. Income statements and cash flow statements must be monthly for the first year and annual for the next 2 years. The balance sheet should be annual for all 3 years. Energy efficiency improvement applicants must provide cash flow statements, income statements, and balance sheets that are annual for all 3 years. This applies to all operations of the applicant, existing and new. Financial projections are not required on any parent, subsidiary, or affiliate of the applicant.

D. Production information for renewable energy system projects.

(1) Is the technology to be employed by the facility commercially or pre-commercially available? Provide information to support this position.

(2) Describe the availability of materials, labor, and equipment for the facility.

E. Business market information for renewable energy system projects.

(1) Demand. What is the demand (past, present, and future) for the product and/or service? Who will buy the product and/or service?

(2) Supply. What is the supply (past, present, and future) of the product and/or service? Who are the competitors?

(3) Market niche. Given the trends in demand and supply, how will the business be able to sell enough of its product/service to be profitable?

16. Form RD 1940-20, “Request for Environmental Information.” It is strongly recommended that the applicant contact the appropriate Rural Energy Coordinator for assistance in completing this form.

17. Verification of Leveraged Funds. Applicant must provide a copy of a bank statement or a copy of the confirmed funding commitment from the funding source. Leveraged funds must be included on the SF-424 and SF-424C forms.

18. Technical Requirements/Engineer or Architect Report. Separate technical requirements exist for grants for renewable energy systems and energy efficiency improvement projects. The applicant must address the appropriate technical requirements. Two copies of the technical requirements must be submitted in order for the State Rural Development Office to submit a copy to the RBS National Office for a technical review.

A. Renewable Energy System Technical Requirements. The application must demonstrate that the system operates over its design life as expected, the owner/operator is capable of managing the system, and the vendor will provide the needed support. The following are technical requirements for renewable energy systems and will be addressed independently, in narrative form, and in the following order:

(1) Detailed Description of System. Provide a step-by-step description, based on authoritative information, of the complete system from renewable and nonrenewable energy input and inclusive of energy, byproduct, and effluent outputs. Describe the type of renewable energy source, its availability (include storage and handling of the source), and modes of delivery. Power and energy required to operate the system must also be described to determine net power and energy produced. Information on the system, if appropriate, must address utility system interconnection requirements, power purchase arrangements, and output energy storage systems. Detailed information on the actual outputs shall be addressed under system performance as outlined in the following section.

(2) System Performance. Describe the expected power and energy production of the proposed system as rated and as expected in actual field conditions. System performance must be addressed on a daily, monthly, annual, and long-term basis. Other products of the system operation shall be identified with quantity and composition produced. Effluents such as air and water, solids, and other residues shall be identified. Non-energy products with potential commercial value, such as fertilizers, soil amendments and hydrogen shall be identified.

(3) System Design Life. Provide historical or engineering information that supports expected design life of the system and timing of major component replacement or rebuilds.

(4) Use of power and energy supplied by system. Describe the uses of the electricity, heat, torque, and energy stored by the renewable energy system. Discuss how renewable energy system downtime will impact any of the uses of the renewable energy supplied by the system and how and if such energy must or can be supplied by other means.

(5) Project Costs and Timeline. Identify and itemize major project costs and a timeline and milestones for key activities, including project design, siting and permitting, system purchase, site preparation, system installation, operational testing, and decommissioning if applicable.

(6) Design qualifications. Discuss needed system designer qualifications and/or certifications in accordance with commonly acceptable or recognized organizations or bodies. If applicable, verify that site designers are qualified and/or certified. Provide evidence that the system and installation plans conform to all applicable national, State, and local standards. Provide a list of the same or similar systems designed, installed, or supplied currently operating and with references if available. Discuss spare parts and service availability for life of the system. Describe the knowledge, skills, and abilities needed to install, service, operate, and maintain the system.

(7) Professional services required. Describe professional services and qualifications, expected professional service costs required to design, construct, operate, and maintain the system. This may include a professional engineer, an agricultural engineer, a design engineer, an environmental engineer, a lawyer, accounting, project construction, project management, or any other needed professional services.

(8) Equipment installation. Fully describe the management and plan for site development and system installation. All systems must be installed and interconnected in conformance with the system manufacturer specifications, utility system requirements, and any applicable national, State, or local codes and standards. A general contractor or a turnkey system provider must install the proposed system.

(9) Startup, shakedown, and steady state operation. Provide the appropriate start up testing procedures and test criteria. Describe testing and inspection procedures necessary before system startup and monitoring of initial operation. Estimate needed time to complete startup testing and shakedown period for system to obtain design-operating parameters at a steady state operating level. Verifiable and empirical information must be provided at startup, end of shakedown, and end of steady state operation test period.

(10) Operations and Maintenance. Describe the routine operations and maintenance requirements of the proposed system, including feedstock acquisition, transportation and handling, maintenance for the mechanical and electrical system, system monitoring and control requirements, output delivery systems, and on-going environmental compliance. Include in the discussion, costs and labor associated with operations and maintenance of system and plans for in or outsourcing.

(11) Potential vendor qualifications. For each vendor, provide the type of services provided, number of years they have provided the proposed services, technical support programs, and availability of spare parts.

(12) Performance assurance. Describe vendor standard warranty and performance bonds where available. The owner operator shall commit to keep the system in operating order for the design life of the system identified above. Obtain a commitment from the vendor to supply and service for the design life of the system provided. Describe available training and operation assistance available from the vendor and other sources. Construction contracts in excess of $100,000 will require a performance and payment bond for 100 percent of the contract price.

(13) A qualified professional engineer must certify numbers 1-10 of the technical requirements for renewable energy system projects exceeding $100,000 in total project cost. Vendors may prepare numbers 11 and 12 of the technical requirements. Qualifications of any preparer or certifier must be submitted with the application.

B. Energy Efficiency Improvement Technical Requirements. The application must demonstrate that the energy efficiency improvements perform over the design life as expected. Information should be supported by the energy audit, required elsewhere in this NOFA, whenever applicable. The following are technical requirements for energy efficiency improvement projects and will be addressed independently, in narrative form, and in the following order:

(1) Detailed Description of Energy Efficiency Improvement Project. Describe the components, materials or systems to be installed and how they improve the energy efficiency of the process or facility being modified. Discuss passive improvements such as improving the thermal efficiency of a storage facility and active improvements such as replacing high efficiency energy consuming equipment as separate topics. If synergisms are anticipated between active and passive improvements or other energy systems discuss these as an additional topic. Any change in on-site effluents or other byproducts shall be included in the discussion.

(2) Performance. Describe the expected energy savings of the energy efficiency improvement project. The expected energy savings must be supported by an authoritative energy audit as described elsewhere in this NOFA. Energy savings must be addressed on an annual basis. Performance may also be addressed on a seasonal basis or other periodic basis as determined and stated by the energy auditor. Discuss performance in a similar topical manner as required in paragraph 1 above.

(3) Design Life. Provide information that supports expected design life of passive and active improvements. Describe the scope and timing of major component replacement or rebuilds.

(4) Project Costs and Timeline. Identify and itemize major energy efficiency improvement project costs and a timeline and milestones for key activities, including project design, permitting, materials and equipment purchase, site preparation, and installation.

(5) Design qualifications. Discuss needed designer qualifications and/or certifications with commonly accepted or recognized organizations or bodies. If applicable, verify that designers are qualified and/or certified. Provide evidence that the energy efficiency improvement project and installation plans conform to all applicable national, State, and local standards. Describe the knowledge, skills, and abilities needed to install, service, operate, and maintain the installed materials, equipment and systems.

(6) Professional services required. Describe professional services and qualifications, expected professional service costs required to design, construct, operate, and maintain the energy efficiency improvement project. This may include a professional engineer, an agricultural engineer, a design engineer, an environmental engineer, a lawyer, accounting, project construction, project management, or any other needed services.

(7) Equipment, system and material installation. Fully describe the plan for site development, and equipment, system and materials installation. All equipment, systems and materials must be installed in conformance with applicable national, State or local codes, and standards. A general contractor or a turnkey provider must install the proposed energy efficiency improvement project.

(8) Operations and maintenance. Describe the routine operations and maintenance of the proposed energy efficiency improvement project. Include in the discussion, costs and labor associated with the operations and maintenance of the energy efficiency improvement project and plans for in and outsourcing.

(9) Potential vendor qualifications. For each vendor, discuss the type of service provided, number of years they have provided the proposed services, availability of spare parts and post sale customer support.

(10) Performance assurance. Describe vendor standard warranty and performance bonds where available. Vendors must offer competitive warranties on products and services. The applicant shall commit to keep the energy efficiency improvement project in good repair and operating order for the design life for the energy efficiency improvement project. Describe how information will be collected and reported to meet the reporting requirements of the Renewable Energy/Energy Efficiency Grant Agreement.

(11) A qualified professional engineer or architect must certify to numbers 1-8 of the technical requirements for an energy efficiency improvement project exceeding $100,000 in total project cost. Vendors may prepare numbers 9 and 10 of the technical requirements. Qualifications of any preparer or certifier must be submitted with the application.

19. Energy Audit for Efficiency Improvements Projects:

Each application for an energy efficiency grant must include an energy audit. An energy audit is a written report by an independent, qualified entity that documents current energy usage, recommended potential improvements and their costs, energy savings from these improvements, dollars saved per year, and weighted-average payback period in years (total costs divided by total dollars of energy savings).

The methodology of the energy audit should meet professional and industry standards. RBS review and evaluation of the assessment is for grant purposes only and should not be considered a validation or guarantee of any technology, proposed project, cost estimate, energy savings value, or future energy costs.

The energy audit should cover the following:

A. Situation report. Give a narrative description of the facility or process, its energy system(s) and usage, and activity profile. Also include price per unit of energy (electricity, natural gas, propane, fuel oil, renewable energy, etc.) paid by the customer on the date of the audit. Any energy conversion should be based on use rather than source.

B. Potential improvements. List specific information on all potential energy-saving opportunities and their costs.

C. Technical analysis. Give consideration to the interactions among the potential improvements and other energy systems:

(1) Estimate the annual energy and energy costs savings expected from each improvement identified in the potential project.

(2) Calculate all direct and attendant indirect costs of each improvement.

(3) Rank potential improvements measures by cost-effectiveness (item 2 divided by item 1 above).

D. Potential improvement description. Give a narrative summary of the potential improvement and its ability to provide needed benefits, including a discussion of project reliability and durability.

(1) Provide primary specifications for critical components.

(2) Provide preliminary drawings of project layout, including any related structural changes.

(3) Document baseline data compared to projected consumption, together with any explanatory notes. When appropriate, show before-and-after data in terms of consumption per unit of production, time or area. Include at least 1 year's bills for those energy sources/fuel types affected by this project. Also submit utility rate schedules, if appropriate.

(4) Identify significant changes in future related operations and maintenance costs.

(5) Identify zoning and building code issues and required permits and licenses.

(6) Describe explicitly how outcomes will be measured.

20. Evaluation Criteria. Evaluation of the proposals will be based on the following criteria. These criteria should be individually addressed in narrative form on a separate sheet of paper. Failure to address any one of the criteria may disqualify the application.

A. Criteria for applications for renewable energy systems are:

(1) Quantity of Energy Produced. Points may only be awarded for either energy replacement or energy generation.

a. Energy replacement. If the proposed renewable energy system is intended primarily for self use by the farm, ranch, or small business and will provide energy replacement of greater than 75 percent, 20 points will be awarded; greater than 50 percent, but less than 75 percent, 15 points will be awarded; or greater than 25 percent, but less than 50 percent, 10 points will be awarded. The energy replacement should be determined by dividing the estimated quantity of energy to be generated by at least the past 12 months energy profile of the applicant. The estimated quantity of energy may be described in Btu's, kilowatts, or similar energy equivalents. Energy profiles can be obtained from the utility company.

b. Energy generation. If the proposed renewable energy system is intended primarily for production of energy for sale, 20 points will be awarded.

(2) Environmental Benefits. If the proposed renewable energy system is to upgrade an existing facility or construct a new facility required to meet applicable health or sanitary standards, 10 points will be awarded. Documentation will be obtained from the appropriate regulatory agency with jurisdiction to establish the standard, to verify that a bona fide standard exists, what that standard is, and that the proposed project is needed and required to meet the standard.

(3) Commercial Availability. If the renewable energy system is currently commercially available and replicable, an additional 10 points will be awarded. Commercial availability must be discussed in the technical requirements.

(4) Cost Effectiveness. If the proposed renewable energy system will return the cost of the investment in 5 years or less, 25 points will be awarded; 6-10 years, 20 points will be awarded; 11-15 years, 15 points will be awarded; or 16-20 years, 10 points will be awarded. The estimated return on investment should be determined by dividing the total cost of the project by the estimated projected net annual income and/or energy savings of the renewable energy system.

(5) Amount Requested. If the amount of the grant request is less than $100,000, 15 points will be awarded; $100,000-$200,000, 10 points will be awarded; or $200,001-$300,000, 5 points will be awarded.

(6) Leveraged Funds. If the applicant has provided eligible leveraged funds of over 90 percent, 15 points will be awarded; 85 percent-90 percent, 10 points will be awarded; or 80 percent-84 percent, 5 points will be awarded.

(7) Management. If the renewable energy system will be monitored and managed by a qualified third-party operator, such as pursuant to a service contract, maintenance contract, or remote telemetry, an additional 10 points will be awarded. Aspects of management must be discussed in the technical requirements.

B. Criteria for applications for energy efficiency improvements are:

(1) Energy savings. If the estimated energy expected to be saved by the installation of the energy efficiency improvements will be 35 percent or greater, 20 points will be awarded; 30 percent-34 percent, 15 points will be awarded; 25 percent-29 percent, 10 points will be awarded; or 20 percent-24 percent, 5 points will be awarded. This will be determined by the projections in an energy audit.

(2) Cost Effectiveness. If the proposed energy efficiency improvements will return the cost of the investment in 2 years or less, 25 points will be awarded; 3-5 years, 20 points will be awarded; 6-8 years, 15 points will be awarded; or 9-11 years, 10 points will be awarded. The estimated return on investment is calculated by dividing the total project cost by the total dollars of energy savings of the energy efficiency improvements.

(3) Amount Requested. If the amount of the grant request is $10,000-$50,000, 15 points will be awarded; $50,001-$125,000, 10 points will be awarded; or $125,001-$200,000, 5 points will be awarded.

(4) Leveraged Funds. If the applicant has provided eligible leveraged funds of over 90 percent, 15 points will be awarded; 85 percent-90 percent, 10 points will be awarded; or 80 percent-84 percent, 5 points will be awarded.

Methods for Evaluating and Ranking Applications

State Rural Development Office personnel will review all applications. Ineligible and incomplete applications may be returned to the applicant and not evaluated further. Projects not financially or technically feasible will not be considered for funding. Qualified industry experts will review the technical requirements of the applications. The State Rural Development Office will score the application based on the Evaluation Criteria and submit it to the National Office to be reviewed and ranked. The National Office will rank applications based on its total score. The highest scoring applications will be selected until all the funds are depleted. Recommendations for funding will be forwarded to the Administrator of RBS, who will award the grants.

Planning and Performing Development

RBS will use 7 CFR 1780.54, 1780.57 (b)-(f) and (h)-(o), 1780.61, 1780.67, 1780.68, 1780.70, 1780.72, 1780.74, 1780.75, and 1780.76 for planning, designing, procurement methods and procedures, bidding, contract award and administration, and construction of renewable energy system and energy efficiency improvement projects as applicable. However, grantees are not authorized to construct the facility/project/improvement in total, or in part, or utilize its own personnel and/or equipment under this NOFA.

Servicing Regulations

Grants will be serviced in accordance with 7 CFR, part 1951, subpart E.

Grantee Requirements

The grantee must sign a Grant Agreement (which is published at the end of the NOFA) and abide by all requirements contained in the Grant Agreement or any other Federal statutes or regulations governing this program. Failure to follow the requirements may result in termination of the grant and adoption of other remedies provided for in the Grant Agreement.

Paperwork Reduction Act

The collection of information requirements contained in this notice have received temporary emergency clearance by the Office of Management and Budget under Control Number 0570-0044. However, in accordance with the Paperwork Reduction Act of 1995, RBS will seek standard OMB approval of the reporting requirements contained in this Notice and hereby opens a 60-day comment period.

Abstract

RBS needs to receive the information contained in this collection of information to select the projects it believes will provide the most long-term economic benefit to rural areas. The selection process is competitive. RBS will ensure that the funds are used for the intended purpose.

Estimate of Burden: Public reporting burden for this collection of information is estimated to average 4.3 hours per response.

Respondents: Agricultural producers and rural small businesses.

Estimated Number of Respondents: 133.

Estimated Number of Responses Per Respondent: 11.

Estimated Number of Responses: 1,463.

Estimated Total Annual Burden on Respondents: 6,251 hours.

Copies of this information collection can be obtained from Tracy Givelekian, Regulations and Paperwork Management Branch, at (202) 692-0039.

Comments

Comments are invited on (a) whether the proposed collection of information is necessary for the proper performance of the functions of RBS, including whether the information will have practical utility; (b) the accuracy of the RBS estimate of the burden of the proposed collection of information, including the validity of the methodology and assumptions used; (c) ways to enhance the quality, utility, and clarity of the information to be collected; and (d) ways to minimize the burden of the collection of information on those who are to respond, including through the use of appropriate automated, electronic, mechanical, or other technological collection techniques or other forms of information technology. Comments may be sent to Tracy Givelekian, Regulations and Paperwork Management Branch, U.S. Department of Agriculture, Rural Development, STOP 0742, 1400 Independence Ave. SW., Washington, DC 20250. All responses to this notice will be summarized and included in the request for Office of Management and Budget approval. All comments will also become a matter of public record.

Dated: April 1, 2003.
Thomas C. Dorr,
Under Secretary, Rural Development.

OMB No. 0570-0044

United States Department of Agriculture

Rural Business-Cooperative Service

Renewable Energy/Energy Efficiency Grant Agreement

THIS GRANT AGREEMENT (Agreement) dated _____ , is a contract for receipt of grant funds under the Renewable Energy/Energy Efficiency program (Title IX, Section 9006 of Public Law 107-171).

BETWEEN

(Grantee) and the United States Of America acting through the Rural Business-Cooperative Service (RBS), Department of Agriculture (Grantor).

WITNESS:

All references herein to “Project” refer to installation of a renewable energy system or energy efficiency improvement located at ______ . The grant is $___ (Grant) which is ___ percent of the Eligible Project Costs.

Should actual project costs be lower than projected in the agreement, the final amount of grant will be adjusted to remain at the above percentage of the final Eligible Project Cost.

WHEREAS:

Grantee has determined to undertake the retrofitting, acquisition, construction, or purchase of a renewable energy/energy efficiency project described in the application dated ___ (Project) with a total estimated cost of $___ .

Grantee is able to finance or obtain funding from other sources for $___ .

Now, therefore, in consideration of said grant, Grantee agrees that Grantee:

Is in compliance with and will comply in the course of the Agreement with all applicable laws, regulations, Executive Orders, and other generally applicable requirements, including those contained in 7 CFR part 3015, “Uniform Federal Assistance Regulations,” which are incorporated into this agreement by reference, and such other statutory provisions as are specifically contained herein.

According to the Paperwork Reduction Act of 1995, an agency may not conduct or sponsor, and a person is not required to respond to, a collection of information unless it displays a valid OMB control number. The valid OMB control number for this information collections is 0570-0044. The time required to complete this information collection is estimated to average 30 minutes per response, including the time for reviewing instructions, searching existing data sources, gathering and maintaining the data needed, and completing and reviewing the collection of information.

The parties agree to all of the terms and provisions of any policy or regulations promulgated under Title IX, Section 9006 of the Farm Security and Rural Investment Act of 2002 as amended. Any application submitted by the Grantee for this grant, including any attachments or amendments, are incorporated and included as part of this Agreement. Any changes to these documents or this Agreement must be approved in writing by the Grantor.

The Grantor may terminate the grant in whole, or in part, at any time before the date of completion, whenever it is determined that the Grantee has failed to comply with the conditions of this Agreement.

Use of Grant Funds

Will use grant funds and leveraged funds only for the purposes and activities specified in the application approved by the Grantor including the approved budget. Budget and approved use of funds are as further described in the Grantor Letter of Conditions and amendments or supplements thereto. Any uses not provided for in the approved budget must be approved in writing by the Grantor. The proposed renewable energy system or energy efficiency improvements shall be constructed/installed in accordance with any energy audit recommendations or engineering or other technical reports provided by the Grantee and approved by the Grantor.

Civil Rights Compliance

Will comply with Executive Order 12898, the Americans with Disabilities Act of 1990, Title VI of the Civil Rights Act of 1964, and Section 504 of the Rehabilitation Act of 1973. This shall include collection and maintenance of data on the race, sex, and national origin of Grantee's membership/ ownership and employees. This data must be available to the Grantor in its conduct of Civil Rights Compliance Reviews, which will be conducted prior to grant closing and 3 years later, unless the final disbursement of grant funds has occurred prior to that date.

Financial Management Systems

A. Will provide a Financial Management System in accordance with 7 CFR part 3015, including but not limited to:

1. Records that identify adequately the source and application of funds for grant-supported activities. Those records shall contain information pertaining to grant awards and authorizations, obligations, unobligated balances, assets, liabilities, outlays, and income.

2. Effective control over and accountability for all funds, property, and other assets. Grantees shall adequately safeguard all such assets and ensure that they are used solely for authorized purposes.

3. Accounting records prepared in accordance with generally accepted accounting principles (GAAP) and supported by source documentation.

4. Grantee tracking of fund usage and records that show matching funds and grant funds are used in equal proportions. The grantee will provide verifiable documentation regarding matching funds usage, i.e., bank statements or copies of funding obligations from the matching source.

B. Will retain financial records, supporting documents, statistical records, and all other records pertinent to the grant for a period of at least 3 years after final grant disbursement, except that the records shall be retained beyond the 3-year period if audit findings have not been resolved. The Grantor and the Comptroller General of the United States, or any of their duly authorized representatives, shall have access to any books, documents, papers, and records of the Grantee's which are pertinent to the grant for the purpose of making audits, examinations, excerpts, and transcripts.

Procurement and Construction

A. Will comply with the applicable procurement requirements of 7 CFR part 1780 regarding standards of conduct, open and free competition, access to contractor records, and equal employment opportunity requirements.

B. Will, for construction contracts in excess of $100,000, provide performance and payment bonds for 100 percent of the contract price.

Acquired Property

A. Will in accordance with 7 CFR part 3015, hold title to all real property identified as part of the project costs, including improvements to land, structures or things attached to them. Movable machinery and other kinds of equipment are not real property (see Item 2 below). In addition:

1. Approval may be requested from Grantor to transfer title to an eligible third party for continued use for originally authorized purposes. If approval is given, the terms of the transfer shall provide that the transferee must assume all the rights and obligations of the transferor, including the terms of this Grant Agreement.

2. If the real property is no longer to be used as provided above, disposition instructions of the Grantor shall be requested and followed. Those instructions will provide for one of the following alternatives:

a. The Grantee may be directed to sell the property, and the Grantor shall have a right to an amount computed by multiplying the Federal (Grantor) share of the property times the proceeds from sale (after deducting actual and reasonable selling and fix-up expenses, if any, from the sale proceeds). Proper sales procedures shall be followed which provide for competition to the extent practicable and result in the highest possible return.

b. The Grantee shall have the opportunity of retaining title. If title is retained, Grantor shall have the right to an amount computed by multiplying the market value of the property by the Federal share of the property.

c. The Grantee may be directed to transfer title to the property to the Federal Government provided that, in such cases, the Grantee shall be entitled to compensation computed by applying the Grantee's percentage of participation in the cost of the program or project to the current fair market value of the property.

Disposition requirements for real property shall expire 20 years from the date of final grant disbursement. This Grant Agreement covers the following described real property (use continuation sheets as necessary).

B. Will abide by the requirements of 7 CFR part 3015 pertaining to equipment, which is acquired wholly or in part with grant funds.

Disposition requirements for equipment will expire at the end of each item's useful life (which is based on a straight-line, non-accelerated method). This Grant Agreement covers the following described equipment (use continuation sheets as necessary):

Item Useful Life

C. Not to encumber, transfer, or dispose of the property or any part thereof, acquired wholly or in part with Grantor funds, without the written consent of the Grantor.

D. If required by Grantor, record liens or other appropriate notices of record to indicate that personal or real property has been acquired or improved with Federal grant funds, and that use and disposition conditions apply to the property as provided by 7 CFR part 3015.

Reporting

A. Will after Grant Approval through Project Construction:

1. Provide periodic reports as required by the Grantor. A financial status report and a project performance report will be required on a quarterly basis (Due 30 working days after end of the quarter. For the purposes of this grant, quarters end on March 31, June 30, September 30, and December 31). The financial status report must show how grant funds and leveraged funds have been used to date and project the funds needed and their purposes for the next quarter. A final report may serve as the last quarterly report. Grantees shall constantly monitor performance to ensure that time schedules are being met and projected goals by time periods are being accomplished. The project performance reports shall include the following:

a. A comparison of actual accomplishments to the objectives for that period.

b. Reasons why established objectives were not met, if applicable.

c. Reasons for any problems, delays, or adverse conditions which will affect attainment of overall program objectives, prevent meeting time schedules or objectives, or preclude the attainment of particular objectives during established time periods. This disclosure shall be accomplished by a statement of the action taken or planned to resolve the situation.

d. Objectives and timetables established for the next reporting period.

2. Final project development report which includes a detailed project funding and expense summary; summary of facility installation/construction process including recommendations for development of similar projects by future applicants to the program.

3. For the year(s) in which in Grant funds are received, Grantee will provide an annual financial statement (Generally Accepted Accounting Principles basis for small businesses) to Grantor.

B. Will after Project Construction:

1. Allow Grantor access to the project and its performance information during its useful life.

2. Provide periodic reports as required by Grantor and permit periodic inspection of the project by a representative of the Grantor. Grantee reports will include but not be limited to the following:

a. Purchase of Renewable Energy System Project Report. Commencing the first full calendar year following the year in which project construction was completed and continuing for 3 full years a report detailing the following will be provided:

i. Quantity of Energy Produced. Grantee to report the actual amount of energy produced in BTUs, kilowatts, or similar energy equivalents.

ii. Environmental Benefits. If applicable, Grantee to provide documentation that identified health and/or sanitation problem has been solved.

iii. Return on Investment. Grantee to provide the annual income and/or energy savings of the renewable energy system.

iv. Summary of the cost of operating and maintaining the facility.

v. Description of any maintenance or operational problems associated with the facility.

vi. Recommendations for development of future similar projects.

b. Energy Efficiency Improvement Project Report. Commencing the first full calendar year following the year in which project construction was completed and continuing for 2 full years. Grantee will report the actual amount of energy saved due to the energy efficiency improvements.

Grant Disbursement

Will disburse grant funds as scheduled. Unless required by funding partners to be provided on a pro rata basis with other funding sources, grant funds will be disbursed after all other funding sources have been expended.

A. Requests for reimbursement may be submitted monthly or more frequently if authorized to do so by the Grantor. Ordinarily, payment will be made within 30 days after receipt of a proper request for reimbursement.

B. Grantee shall not request reimbursement for the Federal share of amounts withheld from contractors to ensure satisfactory completion of work until after it makes those payments.

C. Payment shall be made by electronic funds transfer.

C. Payment shall be made by electronic funds transfer.

D. Standard Form 271, “Outlay Report and Request for Reimbursement for Construction Programs,” or other format prescribed by Grantor shall be used to request Grant reimbursements.

E. For renewable energy projects, grant funds will be disbursed in accordance with the above through 90 percent of grant disbursement. The final 10 percent of grant funds will be held by the Grantor until construction of the project is completed, operational, and has met or exceeded the test run requirements as set out in the grant award requirements.

Post-Disbursement Requirements

Will own, operate, and provide for continued maintenance of the Project.

IN WITNESS WHEREOF, Grantee has this day authorized and caused this Agreement to be signed in its name and its corporate seal to be hereunto affixed and attested by its duly authorized officers thereunto, and the Grantor has caused this Agreement to be duly executed in its behalf by:

Name:

Title:

Date

United States of America

Rural Business-Cooperative Service

By:

Name:

Title:

[FR Doc. 03-8491 Filed 4-7-03; 8:45 am]

BILLING CODE 3410-XU-U